DEPARTMENT OF HOMELAND SECURITY

Federal Emergency Management Agency

44 CFR Part 67

[Docket No. FEMA-D-7672]

Proposed Flood Elevation Determinations

AGENCY: Federal Emergency Management Agency (FEMA), Department of Homeland Security, Mitigation Division.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, 500 C Street SW., Washington, DC 20472, (202) 646-3151.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | *Elevation in feet (NGVD). +Elevation in feet (NAVD). #Depth in feet above ground.: Effective | *Elevation in feet (NGVD). +Elevation in feet (NAVD). #Depth in feet above ground.: Modified | Communities affected
Grafton County, New Hampshire and Incorporated Areas
Ammonoosuc River | At confluence with Connecticut River | None | *428 | Towns of Haverhill, Lisbon, Landaff, and Bethlehem.
| Approximately 1.07 miles upstream of dam in the Town of Littleton | None | *878
Canaan Street Lake | Entire shoreline | None | *1,146 | Town of Canaan.
Connecticut River | Approximately 2.85 miles downstream of State Route 25 (Bradford -Piermont bridge) | None | *411 | Town of Piermont.
| Approximately 1.48 miles downstream of Bedell Covered Bridge | None | *414
Eastman Pond | Entire shoreline | None | *1,110 | Town of Enfield.
Hewes Brook | Approximately 1,700 feet downstream of upstream crossing of Goose Pond Road | None | *696 | Town of Hanover.
| At downstream side of upstream crossing of Goose Pond Road | None | *706
Mirror Lake | Entire shoreline | None | *947 | Town of Canaan, Town of Orange.
Pemigewasset River | Approximately 1.41 miles upstream of confluence of Webster Pond Outlet | None | *476 | Town of Ashland.
| Approximately 1.25 miles upstream of confluence of Webster Pond Outlet | None | *483
Squam Lake | Entire shoreline | None | *565 | Town of Holderness.
ADDRESSES
Town of Ashland
Maps are available for inspection on the GRANIT's (Geographically Referenced Analysis and Information Transfer System) website at http://www.granit.sr.unh.edu/dfirms.
Send comments to Mr. Glenn Dion, Chairman of the Town of Ashland Board of Selectmen, 20 Highland Street, Ashland, New Hampshire 03217.
Town of Bethlehem
Maps are available for inspection on the GRANIT's (Geographically Referenced Analysis and Information Transfer System) website at http://www.granit.sr.unh.edu/dfirms.
Send comments to Ms. Sandy Laleme, Chairperson for the Town of Bethlehem Board of Selectmen, P.O. Box 189, Bethlehem, New Hampshire 03574.
Town of Canaan
Maps are available for inspection on the GRANIT's (Geographically Referenced Analysis and Information Transfer System) website at http://www.granit.sr.unh.edu/dfirms.
Send comments to Mr. Dana I. Hadley, Canaan Town Administrator, P.O. Box 38, Canaan, New Hampshire 03741.
Town of Enfield
Maps are available for inspection on the GRANIT's (Geographically Referenced Analysis and Information Transfer System) website at http://www.granit.sr.unh.edu/dfirms.
Send comments to Mr. Steven P. Schneider, Enfield Town Manager, P.O. Box 373, Enfield, New Hampshire 03748.
Town of Hanover
Maps are available for inspection on the GRANIT's (Geographically Referenced Analysis and Information Transfer System) website at http://www.granit.sr.unh.edu/dfirms.
Send comments to Ms. Julia Griffin, Hanover Town Manager, P.O. Box 483, Hanover, New Hampshire 03755.
Town of Haverhill
Maps are available for inspection on the GRANIT's (Geographically Referenced Analysis and Information Transfer System) website at http://www.granit.sr.unh.edu/dfirms.
Send comments to Mr. Glenn E. English, Haverhill Town Manager, 2975 Dartmouth College Highway, Route 10, North Haverhill, New Hampshire 03774.
Town of Holderness
Maps are available for inspection on the GRANIT's (Geographically Referenced Analysis and Information Transfer System) website at http://www.granit.sr.unh.edu/dfirms.
Send comments to Mr. Walter Johnson, Holderness Town Administrator, P.O. Box 203, Holderness, New Hampshire 03245-0203.
Town of Landiff
Maps are available for inspection on the GRANIT's (Geographically Referenced Analysis and Information Transfer System) website at http://www.granit.sr.unh.edu/dfirms.
Send comments to Mr. Michael Ransmeier, Chairman of the Town of Landaff Board of Selectmen, P.O. Box 125, Landaff, New Hampshire 03585.
Town of Lisbon
Maps are available for inspection on the GRANIT's (Geographically Referenced Analysis and Information Transfer System) website at http://www.granit.sr.unh.edu/dfirms.
Send comments to Mr. Reagan Pride, Chairman of the Town of Lisbon Board of Selectmen, 46 School Street, Lisbon, New Hampshire 03585.
Town of Orange
Maps are available for inspection on the GRANIT's (Geographically Referenced Analysis and Information Transfer System) website at http://www.granit.sr.unh.edu/dfirms.
Send comments to Mr. Charles Sova, Chairman of the Town of Orange Board of Selectmen, P.O. Box 37, Canaan, New Hampshire 03741.
Town of Piermont
Maps are available for inspection on the GRANIT's (Geographically Referenced Analysis and Information Transfer System) website at http://www.granit.sr.unh.edu/dfirms.
Send comments to Mr. Jean Daley, Chairman of the Town of Piermont Board of Selectmen, Library Building, Route 10, Piermont, New Hampshire 03779.
Caldwell County, North Carolina and Incorporated Areas
Abingdon Creek | Approximately 940 feet upstream of Huffman Road | None | +1,089 | Unincorporated Areas of Caldwell County.
| Approximately 325 feet upstream of M.W. Setzer Road | None | +1,098
Amos Creek | At the confluence with Mulberry Creek | None | +1,426 | Unincorporated Areas of Caldwell County.
| Approximately 1.4 miles upstream of the confluence with Mulberry Creek | None | +1,554
Angley Creek | Approximately 300 feet upstream of the confluence with Gunpowder Creek | None | +1,178 | City of Lenoir, Unincorporated Areas of Caldwell County.
| Approximately 600 feet upstream of Southeast Starcross Road | None | +1,252
Angley Creek Tributary 1 | At the confluence with Angley Creek | None | +1,200 | City of Lenoir, Unincorporated Areas of Caldwell County.
| Approximately 1,900 feet upstream of Southeast Starcross Road | None | +1,294
Anthony Creek | At the confluence with Prong Creek | None | +1,423 | Unincorporated Areas of Caldwell County.
| Approximately 1.4 miles upstream of the confluence with Prong Creek | None | +1,753
Billy Branch | At the confluence with Gunpowder Creek | None | +1,037 | Unincorporated Areas of Caldwell County, Town of Granite Falls.
| Approximately 0.6 mile upstream of North Highland Avenue | None | +1,161
Blairs Fork Creek | At the confluence with Lower Creek | +1,075 | +1,073 | City of Lenoir, Unincorporated Areas of Caldwell County.
| Approximately 750 feet upstream of Parson's Park Drive | None | +1,206
Boone Fork | At the confluence with Mulberry Creek | None | +1,219 | Unincorporated Areas of Caldwell County.
| Approximately 1.2 miles upstream of the confluence with Mulberry Creek | None | +1,315
Bristol Creek | Approximately 450 feet downstream of the Burke/Caldwell County boundary | None | +1,135 | Unincorporated Areas of Caldwell County.
| Approximately 100 feet downstream of the Burke/Caldwell County boundary | None | +1,144
Camp Creek | At the confluence with Wilson Creek | None | +1,449 | Unincorporated Areas of Caldwell County.
| At the confluence with Harper Creek | None | +1,555
Catawba River | At the Alexander/Caldwell County boundary | None | +936 | Unincorporated Areas of Caldwell County, City of Hickory, Town of Granite Falls, Town of Sawmills.
| Approximately 2,000 feet upstream of Burke/Caldwell County boundary | None | +1,005
Celia Creek | At the confluence with Husband Creek | None | +1,042 | Unincorporated Areas of Caldwell County.
| Approximately 1.0 mile upstream of Celia Creek Road (State Road 1327) | None | +1,168
Cold Water Creek | At the confluence with Johns River | None | +1,244 | Unincorporated Areas of Caldwell County.
| Approximately 1.7 miles upstream of the confluence with Johns River | None | +1,849
Craig Creek | At the confluence with Wilson Creek | None | +1,394 | Unincorporated Areas of Caldwell County.
| Approximately 1.9 miles upstream of the confluence with Wilson Creek | None | +1,770
Estes Mill Creek | At the confluence with Wilson Creek | None | +1,498 | Unincorporated Areas of Caldwell County.
| Approximately 1.2 miles upstream of the confluence with Wilson Creek | None | +1,656
Fiddle Creek | At the confluence with Mulberry Creek | None | +1,397 | Unincorporated Areas of Caldwell County.
| Approximately 1,600 feet upstream of the confluence with Mulberry Creek | None | +1,437
Franklin Branch | At the confluence with Johns River | +1,107 | +1,108 | Unincorporated Areas of Caldwell County.
| Approximately 1,500 feet upstream of the confluence with Franklin Branch Tributary 1 | None | +1,222
Franklin Branch Tributary 1 | At the confluence with Franklin Branch | None | +1,199 | Unincorporated Areas of Caldwell County.
| Approximately 1,540 feet upstream of the confluence with Franklin Branch | None | +1,229
Freemason Creek | Approximately 1.0 mile upstream of the confluence with Catawba River | None | +1,004 | Unincorporated Areas of Caldwell County, Town of Sawmills.
| Approximately 250 feet upstream of Stamey Road | None | +1,132
Tributary 1 | At the confluence with Freemason Creek | None | +1,013 | Unincorporated Areas of Caldwell County, Town of Sawmills.
| Approximately 1.5 miles upstream of the confluence with Freemason Creek | None | +1,102
Tributary 1A | At the confluence with Freemason Creek Tributary 1 | None | +1,023 | Unincorporated Areas of Caldwell County, Town of Sawmills.
| Approximately 1,700 feet upstream of Hickory Nut Ridge Road | None | +1,058
Tributary 2 | At the confluence with Freemason Creek | None | +1,056 | Unincorporated Areas of Caldwell County, Town of Sawmills.
| Approximately 0.8 mile upstream of Horseshoe Bend Road | None | +1,128
Tributary 2A | At the confluence with Freemason Creek Tributary 2 | None | +1,082 | Unincorporated Areas of Caldwell County, Town of Sawmills.
| Approximately 650 feet upstream of Lafayette Avenue | None | +1,163
Ginger Creek | At the confluence with Middle Little River | None | +1,388 | Unincorporated Areas of Caldwell County.
| Approximately 0.7 mile upstream of Draco Road | None | +1,459
Tributary 1 | At the confluence with Ginger Creek | None | +1,401 | Unincorporated Areas of Caldwell County.
| Approximately 1.3 miles upstream of Scout Road | None | +1,731
Greasy Creek | At the confluence with Lower Creek | +1,065 | +1,062 | Unincorporated Areas of Caldwell County, City of Lenoir.
| Approximately 1,500 feet upstream of the confluence with Lower Creek | +1,067 | +1,066
Gunpowder Creek | At the confluence with Catawba River | None | +936 | Unincorporated Areas of Caldwell County, City of Lenoir.
| Approximately 700 feet upstream of Southeast Applegate Court | None | +1,321
Tributary 1 | At the confluence with Gunpowder Creek | None | +1,073 | Unincorporated Areas of Caldwell County.
| Approximately 1.8 miles upstream of the confluence with Gunpowder Creek | None | +1,186
Tributary 2 | At the confluence with Gunpowder Creek | None | +1,089 | Unincorporated Areas of Caldwell County.
| Approximately 50 feet downstream of Christie Road (State Road 1717) | None | +1,117
Tributary 2A | At the confluence with Gunpowder Creek Tributary 2 | None | +1,090 | Unincorporated Areas of Caldwell County, Town of Hudson.
| Approximately 1,600 feet upstream of Christie Road | None | +1,123
Tributary 3 | At the confluence with Gunpowder Creek | None | +1,107 | Unincorporated Areas of Caldwell County, Town of Hudson.
| Approximately 0.4 mile upstream of the confluence with Gunpowder Creek | None | +1,158
Tributary 4 | Approximately 750 feet upstream of the confluence with Gunpowder Creek | +1,157 | +1,158 | Town of Hudson.
| Approximately 0.6 mile upstream of the confluence with Gunpowder Creek | None | +1,220
Tributary 5 | Approximately 600 feet upstream of the confluence with Gunpowder Creek | +1,212 | +1,213 | City of Lenoir .
| Approximately 0.5 mile upstream of Hickory Boulevard | None | +1,280 |
Tributary 6 | Approximately 700 feet upstream of the confluence with Gunpowder Creek | +1,241 | +1,242 | City of Lenoir .
| Approximately 1,750 feet upstream of the railroad | None | +1,298 |
Harper Creek | At the confluence with Camp Creek | None | +1,555 | Unincorporated Areas of Caldwell County.
| At the Avery/Caldwell County boundary | None | +1,801 |
Hayes Mill Creek | Approximately 1,500 feet upstream of the confluence with Catawba River | None | +1,003 | City of Lenoir, Town of Granite Falls.
| Approximately 700 feet upstream of the confluence of Hayes Mill Creek Tributary 2 | None | +1,120 |
Tributary 1 | At the confluence with Hayes Mill Creek | None | +1,055 | Unincorporated Areas of Caldwell County, Town of Sawmills.
| Approximately 1,700 feet upstream of the confluence with Hayes Mill Creek | None | +1,088 |
Tributary 2 | At the confluence with Hayes Mill Creek | None | +1,113 | Town of Sawmills.
| Approximately 1,900 feet upstream of the confluence with Hayes Mill Creek | None | +1,157 |
Husband Creek | Approximately 0.5 mile upstream of the confluence with Lower River | None | +1,031 | Unincorporated Areas of Caldwell County, Town of Gamewell.
| Approximately 1,900 feet upstream of Rocky Road (State Road 1143) | None | +1,202 |
Husband Creek Tributary 1 | At the confluence with Husband Creek | None | +1,066 | Unincorporated Areas of Caldwell County.
| Approximately 250 feet downstream of the Fleming Chapel (State Road 1322) Church Road | None | +1,132 |
Tributary 2 | At the confluence with Husband Creek | None | +1,096 | Unincorporated Areas of Caldwell County
| Approximately 750 feet upstream of Crooked Creek Way | None | +1,124 |
Johns River | At the Burke/Caldwell County boundary | None | +1,053 | Unincorporated Areas of Caldwell County
| Approximately 3.5 miles upstream of the confluence of Thunderhole Creek | None | +2,346 |
Laurel Creek | At the confluence with Wilson Creek | None | +1,627 | Unincorporated Areas of Caldwell County
| Approximately 1.1 miles upstream of the confluence with Wilson Creek | None | +1,986 |
Little Creek | At the confluence with Upper Little River | None | +1,177 | Unincorporated Areas of Caldwell County
| Approximately 1.4 miles upstream of Cove Mountain Lane | None | +1,321 |
Little Gunpowder Creek (near City of Lenoir) | Approximately 700 feet upstream of Southwest Walt Arney Road | None | +1,218 | Town of Cajahs Mountain.
| Approximately 1,100 feet upstream of Connelly Springs Road | None | +1,268 |
Tributary 1 (near Town of Hudson) | At the confluence with Little Gunpowder Creek (near Town of Hudson) | None | +1,183 | Unincorporated Areas of Caldwell County, Town of Hudson.
| Approximately 50 feet upstream of Madison MHP Drive | None | +1,249 |
Tributary 2 (near Town of Hudson) | At the confluence with Little Gunpowder Creek (near Town of Hudson) | None | +1,194 | Unincorporated Areas of Caldwell County, Town of Hudson.
| Approximately 0.5 mile upstream of Chickadee Trail Place | None | +1,261 |
Little Mulberry Creek 1 | Approximately 1,100 feet upstream of the confluence with Mulberry Creek | +1,132 | +1,131 | Unincorporated Areas of Caldwell County.
| Approximately 350 feet downstream of NC 90 | None | +1,225 |
Creek 2 | At the confluence with Mulberry Creek | None | +1,148 | Unincorporated Areas of Caldwell County.
| Approximately 0.4 mile upstream of Shallow Creek Road (State Road 1350) | None | +1,234 |
Lost Cove Creek | At the confluence with Wilson Creek | None | +1,563 | Unincorporated Areas of Caldwell County.
| At Avery/Caldwell County boundary | None | +1,580 |
Lower Creek | At the Burke/Caldwell County boundary | None | +1,026 | Unincorporated Areas of Caldwell County.
| Approximately 1,900 feet upstream of Cedar Rock Circle (State Road 1706) | +1,130 | +1,131 |
Tributary 1 | At the confluence with Lower Creek | +1,101 | +1,099 | Unincorporated Areas of Caldwell County, City of Lenoir.
| Approximately 0.7 mile upstream of Southeast Haigler Road | None | +1,536 |
McRory Creek | At the confluence with Upper Little River | None | +1,211 | Unincorporated Areas of Caldwell County.
| Approximately 0.6 mile upstream of McRary Creek Road (State Road 1721) | None | +1,285 |
Middle Little River | At the Alexander/Caldwell County boundary | None | +1,098 | Unincorporated Areas of Caldwell County.
| Approximately 0.5 mile upstream of Brush Mountain Road (State Road 1733) | None | +1,419 |
Tributary 3 | At the confluence with Middle Little River | None | +1,222 | Unincorporated Areas of Caldwell County.
| Approximately 1,500 feet upstream of U.S. 64/Taylorsville Road | None | +1,257 |
Tributary 4 | At the confluence with Middle Little river | None | +1,314 | Unincorporated Areas of Caldwell County.
| Approximately 1,000 feet upstream of Duck Creek Road (State Road 1730) | None | +1,360 |
Tributary 5 | At the confluence with Middle Little River | None | +1,316 | Unincorporated Areas of Caldwell County.
| Approximately 0.5 mile upstream of the confluence with Middle Little River | None | +1,362 |
Mill Creek | At the confluence with Upper Little River | None | +936 | Unincorporated Areas of Caldwell County.
| Approximately 1.0 mile upstream of Petra Mill Road (State Road 1740) | None | +1,053
Morris Creek | At the confluence with Upper Little River | None | +1,132 | Unincorporated Areas of Caldwell County.
| Approximately 600 feet upstream of Sheriffs Road (State Road 1730) | None | +1,287
Mountain Run | At the confluence with Upper Little River | None | +1,185 | Unincorporated Areas of Caldwell County.
| Approximately 150 feet upstream of Fox Road | None | +1,321
Mulberry Creek | Approximately 500 feet upstream of the confluence of Little Mulberry Creek 1 | None | +1,131 | Unincorporated Areas of Caldwell County.
| Approximately 0.7 mile upstream of the confluence of Amos Creek | None | +1,514
Pilot Branch | At the confluence with Upper Little River | None | +1,145 | Unincorporated Areas of Caldwell County.
| Approximately 400 feet upstream of Burns Road (State Road 1749) | None | +1,206
Prong Creek | At the confluence with Johns River | None | +1,332 | Unincorporated Areas of Caldwell County.
| At the confluence of Racket Creek | None | +1,418
Racket Creek | At the confluence with Prong Creek | None | +1,418 | Unincorporated Areas of Caldwell County.
| Approximately 4.3 miles upstream of the confluence with Prong Creek | None | +2,284
Raider Camp Creek | At the confluence with Harper Creek and Camp Creek | None | +1,555 | Unincorporated Areas of Caldwell County.
| Approximately 1,800 feet upstream of the confluence with Harper Creek | None | +1,638
Rock Creek | At the confluence with Upper Little River | None | +1,018 | Unincorporated Areas of Caldwell County.
| Approximately 1,400 feet upstream of State Road 1002 | None | +1,146
Rush Branch | At the confluence with Mulberry Creek | None | +1,344 | Unincorporated Areas of Caldwell County.
| Approximately 0.9 mile upstream of the confluence with Mulberry Creek | None | +1,406
Silver Creek | At the confluence with Gunpowder Creek | None | +936 | Unincorporated Areas of Caldwell County, Town of Granite Falls.
| Approximately 0.6 mile upstream of Falls Avenue | None | +1,078
Spain Hour Creek | At the confluence with Blairs Fork Creek | +1,122 | +1,121 | City of Lenoir.
| Approximately 1,800 feet upstream of Blowing Rock Boulevard | +None | +1,176
Stratford Creek | At the confluence with Catawba River | None | +1,005 | Unincorporated Areas of Caldwell County.
| Approximately 0.7 mile upstream of Baton School Road (State Road 1139) | None | +1,110
Tributary 1 | At the confluence with Stratford Creek | None | +1,023 | Unincorporated Areas of Caldwell County.
| Approximately 1,800 feet upstream of Baton School Road (State Road 1139) | None | +1,055
Thorps Creek | At the confluence with Wilson Creek | None | +1,498 | Unincorporated Areas of Caldwell County.
| Approximately 2,050 feet upstream of the confluence with Wilson Creek | None | +1,540
Thunderhole Creek | At the confluence with Johns River | None | +1,430 | Unincorporated Areas of Caldwell County.
| Approximately 0.4 mile upstream of the confluence of New Years Creek | None | +1,930
Upper Little River | At the confluence with Catawba River | None | +936 | Unincorporated Areas of Caldwell County.
| Approximately 0.7 mile upstream of Teaberry Lane | None | +1,294
Tributary 1 | At the confluence with Upper Little River | None | +985 | Unincorporated Areas of Caldwell County.
| Approximately 0.5 mile upstream of Charlie Little Road (State Road 1741) | None | +1,127
Walnut Bottom Creek | At the confluence with Johns River | None | +1,316 | Unincorporated Areas of Caldwell County.
| Approximately 0.6 mile upstream of the confluence with Johns River | None | +1,371
Wilson Creek | Approximately 1.1 miles upstream of Adako Road (State Road 1337) | None | +1,106 | Unincorporated Areas of Caldwell County.
| Approximately 1,000 feet upstream of Avery/Caldwell County boundary | None | +1,681
Zacks Fork Branch | At the confluence with Zacks Fork Creek | +1,106 | +1,104 | Unincorporated Areas of Caldwell County.
| Approximately 1,350 feet upstream of the confluence with Zacks Fork Creek | +1,106 | +1,105
Zacks Fork Creek | Approximately 800 feet downstream of Northeast Georgetown Road | +1,040 | +1,039 | City of Lenoir, Unincorporated Areas of Caldwell County.
| At the confluence with Lower Creek | +1,092 | +1,088
Tributary 1 | Approximately 400 feet upstream of the confluence with Zacks Fork Creek | +1,157 | +1,156 | City of Lenoir, Unincorporated Areas of Caldwell County.
| Approximately 1.2 miles upstream of the confluence with Zacks Fork Creek | None | +1,268
ADDRESSES
City of Hickory
Maps are available for inspection at the Hickory City Hall, 76 North Center Street, Hickory, North Carolina.
Send comments to The Honorable G. Rudy Wright, Jr., Mayor of the City of Hickory, P.O. Box 398, Hickory, North Carolina 28603.
City of Lenoir
Maps are available for inspection at the Lenoir City Hall, 801 West Avenue, Northwest, 3rd Floor, Lenoir, North Carolina.
Send comments to The Honorable David Barlow, Mayor of the City of Lenoir, City Hall Offices, Lenoir, North Carolina 28645.
Town of Cajahs Mountain
Maps are available for inspection at the Cajahs Mountain Town Hall, 1800 Connelly Springs Road, Lenoir, North Carolina.
Send comments to Mr. Bill Oxford, Chairman of the Town of Cajahs Mountain Board of Aldermans, 1800 Connelly Springs Road, Lenoir, North Carolina 28645.
Town of Gamewell
Maps are available for inspection at the Gamewell Town Hall, 2750 Old Morganton Road, Lenoir, North Carolina.
Send comments to The Honorable Jack Roberts, Mayor of the Town of Gamewell, 2750 Old Morganton Road, Lenoir, North Carolina 28645.
Town of Granite Falls
Maps are available for inspection at the Granite Falls Town Hall, 30 Park Square, Granite Falls, North Carolina.
Send comments to The Honorable Barry Hayes, Mayor of the Town of Granite Falls, P.O. Drawer 10, Granite Falls, North Carolina 28630.
Town of Hudson
Maps are available for inspection at the Hudson Town Hall, 550 Central Street, Hudson, North Carolina.
Send comments to The Honorable Bill Beane, Mayor of the Town of Hudson, P.O. Box 457, Hudson, North Carolina 28638.
Town of Sawmills
Maps are available for inspection at the Sawmills Town Hall, 4076 U.S. Highway 321A, Sawmills, North Carolina.
Send comments to The Honorable Bobby Austin, Mayor of the Town of Sawmills, 4076 U.S. Highway 321A, Sawmills, North Carolina 28630.
Unincorporated Areas of Caldwell County
Maps are available for inspection at the Caldwell County Courthouse, 1051 Harper Avenue, Lenoir, North Carolina.
Send comments to Mr. William White, Caldwell County Manager, P.O. Box 2200, Lenoir, North Carolina 28645.
Gaston County, North Carolina and Incorporated Areas
Abbey Creek | At the upstream side of Hazeline Avenue | +574 | +577 | Unincorporated Areas of Gaston County, City of Belmont.
| Approximately 350 feet upstream of Interstate 85 | None | +701
Abernathy Creek | At the confluence with Crowders Creek | None | +707 | Unincorporated Areas of Gaston County, City of Kings Mountain.
| Approximately 1.3 miles upstream of Interstate 85 | None | +805
Beaverdam Creek | Approximately 700 feet upstream of the confluence with South Fork Catawba River | None | +716 | Unincorporated Areas of Gaston County, City of Cherryville, City of High Shoals.
| Approximately 500 feet downstream of Dallas Cherryville Highway (State Road 279) | None | +834
Tributary 1 | Approximately 350 feet upstream of the confluence with Beaverdam Creek | None | +842 | Unincorporated Areas of Gaston County, City of Cherryville.
| Approximately 1,350 feet upstream of the confluence of Beaverdam Creek Tributary 1A | None | +870
Tributary 1A | At the confluence with Beaverdam Creek Tributary 1 | None | +857 | Unincorporated Areas of Gaston County, City of Cherryville.
| Approximately 1,590 feet upstream of the confluence with Beaverdam Creek Tributary 1 | None | +876
Blackwood Creek | Approximately 700 feet downstream of the North Carolina/South Carolina State boundary | None | +571 | Unincorporated Areas of Gaston County, City of Belmont, City of Gastonia, City of Mount Holly.
| Approximately 0.9 mile upstream of the confluence with Crowder Creek | +674 | +673
Burton Branch | Approximately 1,150 feet upstream of the confluence with Long Creek | +662 | +663 | Unincorporated Areas of Gaston County, City of Gastonia, Town of Ranlo.
| Approximately 0.4 mile upstream of Ridge Avenue | None | +720
Carpenters Branch | At the confluence with Little Long Creek | None | +735 | Unincorporated Areas of Gaston County, Town of Dallas.
| Approximately 0.9 mile upstream of the confluence with Little Long Creek | None | +774
Catawba Creek | Approximately 500 feet downstream of Gaston County, North Carolina/York County, South Carolina State boundary | None | +571 | Unincorporated Areas of Gaston County, City of Gastonia.
| Approximately 830 feet downstream of Union New Hope Road (State Road 2435) | None | +588
Tributary | At the confluence with Catawba Creek | None | +571 | Unincorporated Areas of Gaston County.
| Approximately 500 feet downstream of Catawba Cove Drive (State Road 2650) | None | +583
Tributary 1 | At the confluence with Catawba Creek | None | +571 | Unincorporated Areas of Gaston County.
| Approximately 1.1 miles upstream of the confluence with Catawba Creek | None | +590
Tributary 2 | At the confluence with Catawba Creek | None | +580 | Unincorporated Areas of Gaston County.
| Approximately 60 feet upstream of Rufus Ratchford Road (State Road 2431) | None | +601
Tributary 3 | Approximately 400 feet upstream of the confluence with Catawba Creek | None | +611 | Unincorporated Areas of Gaston County.
| Approximately 130 feet downstream of Driftwood Drive (State Road 2840) | None | +636
Tributary 4 | Approximately 300 feet upstream of the confluence with Catawba Creek | None | +626 | Unincorporated Areas of Gaston County, City of Gastonia.
| Approximately 0.8 mile upstream of Woodbridge Drive | None | +753
Catawba River | Approximately 1.6 miles upstream of State Highway 16 | +655 | +656 | Unincorporated Areas of Gaston County, City of Mount Holly.
| At the Lincoln/Gaston County boundary | None | +665
Tributary 1 | Approximately 1,005 feet upstream of the confluence with Catawba River | None | +576 | Unincorporated Areas of Gaston County, City of Mount Holly.
| Approximately 230 feet downstream of Beatty Drive | None | +643
Tributary 2 | Approximately 1,300 feet upstream of the confluence with Catawba River | None | +576 | Unincorporated Areas of Gaston County, City of Mount Holly.
| Approximately 600 feet upstream of Missouri Lane | None | +585
Tributary 3 | Approximately 925 feet upstream of the confluence with Catawba River | +580 | +581 | Unincorporated Areas of Gaston County, City of Mount Holly.
| Approximately 1.1 miles upstream of the Railroad | None | +677
Coley Creek | Approximately 100 feet downstream of Colt Thornburg Road (State Road 1802) | None | +667 | Unincorporated Areas of Gaston County.
| Approximately 40 feet downstream of Cloninger Road (State Road 1805) | None | +673
Crowders Creek | At the confluence with South Fork Crowders Creek | None | +639 | Unincorporated Areas of Gaston County, City of Gastonia, City of Kings Mountain.
| Approximately 1.0 mile upstream of the confluence of McGill Creek | None | +806
Durharts Creek Tributary 1 | Approximately 350 feet upstream of the confluence with Durharts Creek | +591 | +594 | Unincorporated Areas of Gaston County, Town of Cramerton.
| Approximately 0.7 mile upstream of the confluence with Durharts Creek | None | +636
Dutchmans Creek | Approximately 50 feet upstream of the confluence of South Stanley Creek | None | +597 | Unincorporated Areas of Gaston County, City of Mount Holly.
| At the confluence of Leepers Creek and Killian Creek | None | +624
Ferguson Branch | At the confluence with Crowders Creek | None | +657 | Unincorporated Areas of Gaston County.
| Approximately 1.0 mile upstream of the confluence with Ferguson Branch | None | +689
First Creek | Approximately 950 feet upstream of the confluence with Abernathy Creek | None | +771 | Unincorporated Areas of Gaston County, City of Bessemer City.
| Approximately 0.6 mile upstream of the confluence with Abernathy Creek | None | +779
Fites Creek | Approximately 1.0 mile upstream of Perfection Avenue | None | +675 | Unincorporated Areas of Gaston County.
| Approximately 1.6 miles upstream of Perfection Avenue | None | +701
Tributary 1 | Approximately 150 feet upstream of the confluence with Fites Creek | None | +609 | Unincorporated Areas of Gaston County, City of Belmont, City of Mount Holly.
| Approximately 900 feet upstream of Acme Road (State Road 2032) | None | +694
Tributary 1A | At the confluence with Fites Creek Tributary 1 | None | +649 | Unincorporated Areas of Gaston County, City of Belmont, City of Mount Holly.
| Approximately 0.4 mile upstream of the confluence with Fites Creek Tributary 1 | None | +671
Gilliam Creek | Approximately 150 feet downstream of the Cleveland/Gaston County boundary | None | +802 | Unincorporated Areas of Gaston County, City of Cherryville.
| Approximately 1.3 miles upstream of the confluence of Gilliam Creek Tributary 2 | None | +856
Tributary 1 | Approximately 150 feet downstream of the confluence of Gilliam Creek Tributary 1A | None | +800 | Unincorporated Areas of Gaston County, City of Cherryville.
| At the downstream side of West Colonial Drive | None | +863
Tributary 1A | At the confluence with Gilliam Creek Tributary 1 | None | +801 | Unincorporated Areas of Gaston County, City of Cherryville.
| Approximately 0.4 mile upstream of the confluence with Gilliam Creek Tributary 1 | None | +832
Tributary 2 | At the confluence with Gilliam Creek | None | +810 | Unincorporated Areas of Gaston County.
| Approximately 160 feet upstream of the Cleveland/Gaston County boundary | None | +812
Hoyle Creek | Approximately 50 feet upstream of Old Willis School Road (State Road 1836) | None | +656 | Unincorporated Areas of Gaston County, City of High Shoals.
| Approximately 900 feet upstream of the confluence of Hoyle Creek Tributary 1 | None | +745
Indian Creek | At the Lincoln/Gaston County boundary | None | +781 | Unincorporated Areas of Gaston County, City of Cherryville.
| At the confluence of Lick Fork Creek | None | +790
Tributary 3 | At the confluence with Indian Creek | None | +785 | Unincorporated Areas of Gaston County, City of Cherryville.
| Approximately 0.7 mile upstream of Robert Road | None | +819
Johnson Creek | At the confluence with Catawba River | None | +660 | Unincorporated Areas of Gaston County.
| At the Lincoln/Gaston County boundary | None | +664
Killian Creek | At the confluence with Dutchmans Creek and Leepers Creek | None | +624 | Unincorporated Areas of Gaston County.
| At the Lincoln/Gaston County boundary | None | +635
Leepers Creek | At the confluence with Dutchmans Creek and Killian Creek | None | +624 | Unincorporated Areas of Gaston County.
| At the Lincoln/Gaston County boundary | None | +635
Lick Fork Creek | At the confluence with Indian Creek | None | +790 | Unincorporated Areas of Gaston County, City of Cherryville.
| Approximately 125 feet downstream of Vernon Street | None | +878
Tributary 1 | At the confluence with Lick Fork Creek | None | +806 | Unincorporated Areas of Gaston County, City of Cherryville.
| Approximately 1.8 miles upstream of the confluence with Lick Fork Creek | None | +894
Little Beaverdam Creek | At the confluence with Beaverdam Creek | None | +764 | Unincorporated Areas of Gaston County.
| Approximately 200 feet downstream of Tryon Courthouse Road | None | +899
Little Hoyle Creek | At the confluence with Hoyle Creek | None | +666 | Unincorporated Areas of Gaston County.
| Approximately 1.1 miles upstream of Rhyne Road | None | +711
Little Long Creek | Approximately 460 feet downstream of the confluence of Carpenters Branch | None | +734 | Unincorporated Areas of Gaston County, Town of Dallas.
| Approximately 970 feet upstream of Puetts Chapel Road | None | +859
Long Creek | Approximately 50 feet upstream of State Highway 274/Tryon Courthouse Road | None | +773 | Unincorporated Areas of Gaston County, City of Bessemer City.
| Approximately 0.5 mile upstream of Sunnyside Shady Rest Road (State Road 1409) | None | +906
| Approximately 650 feet upstream of the confluence with Long Creek | None | +759 | Unincorporated Areas of Gaston County.
Tributary 6 | Approximately 50 feet downstream of Bess Town Road | None | +782
| At the confluence with Long Creek Tributary 6 | None | +770 | Unincorporated Areas of Gaston County.
Tributary 6A | Approximately 0.7 mile upstream of the confluence with Long Creek Tributary 6 | None | +784
| At the confluence with Long Creek Tributary 6 | None | +773 | Unincorporated Areas of Gaston County.
Tributary 6B | Approximately 130 feet downstream of Abel Road (State Road 1447) | None | +782
Lutz Branch | Approximately 1,300 feet upstream of the confluence | None | +685 | Unincorporated Areas of Gaston County, City of High Shoals.
| At the Lincoln/Gaston County boundary | None | +738
Mauney Creek | At the confluence with Hoyle Creek | None | +656 | Unincorporated Areas of Gaston County, Town of Stanley.
| Approximately 190 feet downstream of Mauney Road | None | +689
McGill Branch | At the confluence with Crowders Creek | None | +647 | Unincorporated Areas of Gaston County.
| Approximately 0.8 mile upstream of Lewis Road (State Road 1126) | None | +775
McGill Creek | At the confluence with Crowders Creek | None | +770 | Unincorporated Areas of Gaston County, City of Gastonia, City of Kings Mountain.
| Approximately 250 feet downstream of the Cleveland/Gaston County boundary | None | +878
Muddy Fork Tributary 5 | Approximately 140 feet downstream of Doc Wehunt Road | None | +818 | Unincorporated Areas of Gaston County, City of Cherryville.
| Approximately 2,680 feet upstream of Doc Wehunt Road | None | +843
South Fork Catawba River Tributary 1 | Approximately 0.5 mile upstream of the confluence with South Fork Catawba River | None | +571 | Unincorporated Areas of Gaston County.
| Approximately 1.4 miles upstream of the confluence with South Fork Catawba River | None | +571
Tributary 2 | Approximately 1,100 feet upstream of the confluence with South Fork Catawba River | None | +584 | Unincorporated Areas of Gaston County, City of Belmont, Town of McAdenville.
| Approximately 340 feet downstream of Fairway Highway | None | +630
South Fork Crowders Creek | At the Gaston County, North Carolina/York County, South Carolina State boundary. | None | +618 | Unincorporated Areas of Gaston County, City of Gastonia.
| Approximately 0.7 mile upstream of Lewis Road (State Route 1126) | None | +707
Tributary 1 | At the confluence with South Fork Crowders Creek | None | +619 | Unincorporated Areas of Gaston County.
| Approximately 0.5 mile upstream of the confluence with South Fork Crowders Creek | None | +628
Tributary 2 | At the confluence with South Fork Crowders Creek | None | +630 | Unincorporated Areas of Gaston County.
| Approximately 200 feet upstream of the Gaston County, North Carolina/York County, South Carolina State boundary | None | +633
Tributary 4 | At the confluence with South Fork Crowders Creek | None | +660 | Unincorporated Areas of Gaston County.
| At the Gaston County, North Carolina/York County, South Carolina State boundary | None | +664
Tributary 5 | At the confluence with South Fork Crowders Creek | None | +675 | Unincorporated Areas of Gaston County.
| Approximately 0.9 mile upstream of Sparrow Springs Road (State Road 1125) | None | +705
South Stanley Creek | Approximately 180 feet upstream of the confluence with Dutchmans Creek | None | +597 | Unincorporated Areas of Gaston County, City of Mount Holly, Town of Stanley.
| Approximately 650 feet upstream of the confluence of South Stanley Creek Tributary 1 | None | +650
Tributary 1 | At the confluence with South Stanley Creek | None | +645 | Unincorporated Areas of Gaston County, Town of Stanley.
| Approximately 2,200 feet upstream of the Railroad | None | +738
Stanley Creek | At the confluence with Dutchmans Creek | None | +600 | Unincorporated Areas of Gaston County, City of Mount Holly, Town of Stanley.
| Approximately 1.5 miles upstream of Blacksnake Road | None | +699
Sulphur Branch | At the upstream side of Cherry Street | None | +707 | Unincorporated Areas of Gaston County, City of High Shoals.
| Approximately 0.4 mile upstream of Ross Road | None | +816
Taylors Creek | Approximately 900 feet upstream of Woodlawn Avenue | None | +591 | Unincorporated Areas of Gaston County, City of Mount Holly.
| Approximately 60 feet downstream of Lamplighter Lane (State Road 2171) | None | +681
Tributary 1 | At the confluence with Taylors Creek | None | +618 | Unincorporated Areas of Gaston County.
| Approximately 0.6 mile upstream of the confluence of Taylors Creek Tributary 1A | None | +656
Tributary 1A | At the confluence with Taylors Creek Tributary 1 | None | +635 | Unincorporated Areas of Gaston County.
| Approximately 0.4 mile upstream of the confluence with Taylors Creek Tributary 1 | None | +653
Tributary A | At the confluence with South Fork Crowders Creek | None | +635 | Unincorporated Areas of Gaston County, City of Gastonia.
| Approximately 230 feet upstream of Huffman Road | None | +746
Tributary B | At the confluence with Tributary A | None | +719 | Unincorporated Areas of Gaston County, City of Gastonia.
| Approximately 0.5 mile upstream of the confluence with Tributary A | None | +784
Tributary B-1 | At the confluence with Tributary B | None | +737 | Unincorporated Areas of Gaston County, City of Gastonia.
| Approximately 1,840 feet upstream of the confluence with Tributary B | None | +758
Tributary L-4 | Approximately 0.6 mile upstream of the confluence with Long Creek | None | +682 | Unincorporated Areas of Gaston County, Town of Dallas.
| Approximately 1,900 feet upstream of Old Dallas Highway | None | +727
Tributary L-4-2 | At the confluence with Tributary L-4 | None | +715 | Town of Dallas.
| Approximately 300 feet upstream of West Robinson Street | None | +744
Tributary R-1 | At the confluence with Crowders Creek | +669 | +665 | Unincorporated Areas of Gaston County, City of Gastonia.
| Approximately 50 feet upstream of Torrence Road | +669 | +670
Tributary R-5 | Approximately 1,050 feet upstream of the confluence with Crowders Creek | +688 | +689 | Unincorporated Areas of Gaston County, City of Bessemer City, City of Gastonia.
| Approximately 0.5 mile upstream of Oates Road | +814 | +823
Unnamed Tributary 1 to Long Creek | Approximately 750 feet upstream of the confluence with Long Creek | +773 | +774 | Unincorporated Areas of Gaston County, City of Bessemer City.
| At the confluence with Long Creek | None | +774
Unnamed Tributary to Tributary A | At the confluence with Tributary A | None | +638 | Unincorporated Areas of Gaston County.
| Approximately 0.5 mile upstream of the confluence with Tributary A | None | +645
ADDRESSES
City of Belmont
Maps are available for inspection at the City of Belmont Planning and Zoning Department, 37 North Main Street, Belmont, North Carolina.
Send comments to The Honorable Richard Boyce, Mayor of the City of Belmont, P.O. Box 431, Belmont, North Carolina 28012.
City of Bessemer City
Maps are available for inspection at the City of Bessemer City Hall, 132 West Virginia Avenue, Bessemer City, North Carolina.
Send comments to The Honorable Alan Farrif, Mayor of the City of Bessemer City, 132 West Virginia Avenue, Bessemer City, North Carolina 28016.
City of Cherryville
Maps are available for inspection at the Cherryville City Hall, 116 South Mountain Street, Cherryville, North Carolina.
Send comments to The Honorable Bob Austell, Mayor of the City of Cherryville, 116 South Mountain Street, Cherryville, North Carolina 28021.
City of Gastonia
Maps are available for inspection at the City of Gastonia Engineering Department, 150 South York Street, Gastonia, North Carolina.
Send comments to The Honorable Jennifer Stultz, Mayor of the City of Gastonia, P.O. Box 1748, Gastonia, North Carolina 28053.
City of High Shoals
Maps are available for inspection at the High Shoals City Hall, 101 Thompkins Street, High Shoals, North Carolina.
Send comments to The Honorable Fred Gilbert, Mayor of the City of High Shoals, P.O. Box 6, High Shoals, North Carolina 28077.
City of Kings Mountain
Maps are available for inspection at the Kings Mountain City Hall, 101 West Gold Street, Kings Mountain, North Carolina.
Send comments to The Honorable Rick Murphrey, Mayor of the City of Kings Mountain, P.O. Box 429, Kings Mountain, North Carolina 28086.
City of Lowell
Maps are available for inspection at the Lowell City Hall, 101 West First Street, Lowell, North Carolina.
Send comments to The Honorable Judy Horne, Mayor of the City of Lowell, P.O. Box 217, Lowell, North Carolina 28098.
City of Mount Holly
Maps are available for inspection at the Mount Holly City Hall, 131 South Main Street, Mount Holly, North Carolina.
Send comments to The Honorable Robert Whitt, Mayor of the City of Mount Holly, P.O. Box 406, Mount Holly, North Carolina 28120.
Town of Cramerton
Maps are available for inspection at the Cramerton Town Hall, 155 North Main Street, Cramerton, North Carolina.
Send comments to The Honorable Ronald Murphy, Mayor of the Town of Cramerton, 155 North Main Street, Cramerton, North Carolina 28032.
Town of Dallas
Maps are available for inspection at the Dallas Town Hall, 210 North Holland Street, Dallas, North Carolina.
Send comments to The Honorable Rick Coleman, Mayor of the Town of Dallas, 210 North Holland Street, Dallas, North Carolina 28034.
Town of McAdenville
Maps are available for inspection at the McAdenville Town Hall, 125 Main Street, McAdenville, North Carolina.
Send comments to The Honorable Jerry Hilton, Mayor of the Town of McAdenville, 127 Sanford Road, Gastonia, North Carolina 28056.
Town of Ranlo
Maps are available for inspection at the Ranlo Town Hall, 1624 Spencer Mountain Road, Gastonia, North Carolina.
Send comments to The Honorable Donald Clemmer, Mayor of the Town of Ranlo, 1624 Spencer Mountain Road, Gastonia, North Carolina 28054.
Town of Stanley
Maps are available for inspection at the Stanley Town Hall, 114 South Main Street, Stanley, North Carolina.
Send comments to The Honorable Judith Johnson, Mayor of the Town of Stanley, P.O. Box 279, Stanley, North Carolina 28164.
Unincorporated Areas of Gaston County
Maps are available for inspection at the Gaston County Administration Office, 128 West Main Avenue, Gastonia, North Carolina.
Send comments to Ms. Jan Winters, Gaston County Manager, 128 West Main Avenue, Gastonia, North Carolina 28053.
Guilford County, North Carolina and Incorporated Areas
Back Creek Tributary (Stream No. 90) | At the confluence with Back Creek | None | +595 | Guilford County.
| Approximately 0.5 mile upstream of Sanitary Landfill Road | None | +638
Beaver Creek (Stream No. 83) | At the Alamance/Guilford County boundary | None | +635 | Guilford County (unincorporated areas).
| At the Alamance/Guilford County boundary | None | +569
Big Alamance Creek Tributary 8 | Approximately 900 feet upstream of the confluence with Big AlamanceCreek | +658 | +659 | Guilford County (Unincorporated Areas), Town of Pleasant Garden.
| Approximately 100 feet upstream of Hagon Stone Park Road | None | +712
Boulding Branch | Approximately 50 feet upstream of Montileu Avenue | None | +854 | City of High Point.
| At North Centennial Street | None | +888
Tributary 3. | Approximately 400 feet upstream of the confluence with Boulding Branch | None | +798 | City of High Point.
| Approximately 1,000 feet upstream of McGuinn Drive | None | +849
Brush Creek (Stream No. 54) | At the downstream side of Brass Eagle Loop | +780 | +778 | Guilford County (Unincorporated Areas), City of Greensboro.
| Approximately 1,550 feet upstream of Airport Center Drive | None | +879
Tributary | At the confluence with Brush Creek | +816 | +814 | Guilford County (Unincorporated Areas), City of Greensboro.
| Approximately 1.5 miles upstream of Airport Parkway | None | +925
Bull Run (Stream No. 28) | At the confluence with Deep River (Stream No. 1) | +705 | +704 | Guilford County (Unincorporated Areas), City of Greensboro, Town of Jamestown.
| Approximately 1,000 feet upstream of Ruffin Road | None | +845
Copper Branch | Approximately 1,150 feet upstream of the confluence with Deep River (Stream No. 1) | None | +700 | Guilford County (Unincorporated Areas), City of High Point.
| Approximately 600 feet upstream of I-85 | None | +822
Deep River Tributary 26 | Approximately 800 feet downstream of the Guilford/Randolph County boundary | None | +701 | Guilford County (Unincorporated Areas) .
| Approximately 0.8 mile upstream of the Guilford/Randolph County boundary | None | +722
Tributary 30 | Approximately 500 feet upstream of the confluence with West Fork Deep River (Stream No. 2) | None | +762 | City of High Point .
| Approximately 0.5 mile upstream of the confluence with West Fork Deep River (Stream No. 2) | None | +800
Tributary 31 | Approximately 750 feet upstream of the confluence with West Fork Deep River (Stream No. 2) | None | +778 | City of High Point .
| Approximately 650 feet upstream of Arden Place | None | +863
East Fork Deep River Tributary 2 | Approximately 500 feet upstream of the confluence with East Fork Deep River | None | +790 | Guilford County (Unincorporated Areas), City of Greensboro, City of High Point.
| Approximately 1,300 feet upstream of I-40 | None | +866
Haw River Tributary 19 | Approximately 400 feet upstream of the confluence with Haw River | None | +844 | Guilford County (Unincorporated Areas).
| Approximately 1.0 mile upstream of the confluence with Haw River | None | +901
Horsepen Creek (Stream No. 55) | Approximately 120 feet downstream of railroad | +743 | +742 | Guilford County (Unincorporated Areas), City of Greensboro.
| Approximately 200 feet downstream of Distribution Drive | None | +835
Tributary 1 (Stream No. 57) | At the confluence with Horsepen Creek | +756 | +757 | City of Greensboro.
| Approximately 1,375 feet upstream of Derbyshire Drive | None | +833
Tributary 2 (Stream No. 56) | At the confluence with Horsepen Creek | +762 | +761 | City of Greensboro.
| Approximately 1,800 feet upstream of Hobbs Road | None | +853
Tributary B | At the confluence with Horsepen Creek Tributary 2 | None | +778 | City of Greensboro.
| Approximately 1.1 miles upstream of Hobbs Road | None | +861
Tributary C | At the confluence with Horsepen Creek | None | +758 | Guilford County (Unincorporated Areas), City of Greensboro
| Approximately 2,275 feet upstream of Four Farms Road | None | +784
Tributary D | At the confluence with Horsepen Creek | None | +772 | Guilford County (Unincorporated Areas), City of Greensboro.
| Approximately 0.8 mile upstream of Chance Road | None | +831
Tributary F | At the confluence with Horsepen Creek | None | +785 | Guilford County (Unincorporated Areas), City of Greensboro.
| Approximately 400 feet upstream of Joseph Bryan Boulevard | None | +822
Tributary G | At the confluence with Horsepen Creek | None | +797 | Guilford County (Unincorporated Areas), City of Greensboro.
| Approximately 0.6 mile upstream of the confluence with Horsepen Creek | None | +828
Tributary H | At the confluence with Horsepen Creek | +795 | +796 | City of Greensboro.
| Approximately 0.4 mile upstream of Ballinger Road | None | +806
Tributary I | At the confluence with Horsepen Creek Tributary H | None | +806 | City of Greensboro.
| Approximately 100 feet upstream of Friendway Road | None | +861
Tributary K | At the confluence with Horsepen Creek | +820 | +822 | City of Greensboro.
| Approximately 250 feet upstream of North Chimney Rock Road | None | +888
Knight Road Branch | Approximately 1,700 feet upstream of the confluence with West Ford Deep River (Stream No. 2) | None | +819 | Guilford County (Unincorporated Areas), City of High Point.
| At the Guilford/Forsyth County boundary | None | +838
Lake Hamilton | At the confluence with North Buffalo Creek | +784 | +785 | City of Greensboro.
| Approximately 70 feet upstream of East Kemp Road | None | +815
Long Branch (Stream No. 25) | Approximately 1.6 miles upstream of West Wendover Avenue | None | +837 | Guilford County (Unincorporated Areas), City of Greensboro.
| Approximately 550 feet upstream of I-40 | None | +863
Mile Branch Tributary 1 | Approximately 700 feet upstream of the confluence with Mile Branch | None | +729 | Guilford County (Unincorporated Areas), City of High Point.
| Approximately 0.7 mile upstream of the confluence with Mile Branch | None | +780
Muddy Creek East Tributary | At the Guilford/Randolph County boundary | None | +814 | Guilford County (Unincorporated Areas), City of High Point.
| Approximately 1,000 feet upstream of Baker Road | None | +855
East Tributary 2 | At the High Point ETJ/Archdale City boundary | None | +789 | Guilford County (Unincorporated Areas), City of High Point.
| At the High Point ETJ/Archdale City boundary | None | +799
East Tributary 4 | At the Guilford/Randolph County boundary | None | +771 | Guilford County (Unincorporated Areas), City of High Point.
| Approximately 1,500 feet upstream of Liberty Road | None | +826
East Tributary 5 | At the High Point ETJ/Archdale City boundary | None | +778 | Guilford County (Unincorporated Areas), City of High Point.
| Approximately 550 feet upstream of Liberty Road | None | +814
North Buffalo Creek (Stream No. 66) | Approximately 50 feet downstream of Rankin Mill Road | +696 | +697 | Guilford County (Unincorporated Areas), City of Greensboro.
| Approximately 90 feet upstream of South Holden Road | None | +816
Tributary 1 | At the confluence with Jordan Branch | None | +747 | City of Greensboro.
| Approximately 700 feet upstream of Allyson Avenue | None | +779
Tributary 2 | At the confluence with Muddy Creek | +719 | +718 | City of Greensboro.
| Approximately 0.4 mile upstream of Woodmore Drive | None | +750
Tributary 3 | At Briarcliff Road | None | +744 | City of Greensboro.
| Approximately 0.5 mile upstream of the confluence of North Buffalo Creek | None | +756
Tributary 5 | Approximately 950 feet upstream of the confluence with North Buffalo Creek Tributary A | +774 | +775 | City of Greensboro.
| Approximately 75 feet upstream of Forest Hill Drive | None | +843
North Little Alamance Creek Tributary 6 | Approximately 700 feet upstream of the confluence with North Little Alamance Creek | None | +627 | Guilford County (Unincorporated Areas).
| Approximately 1,900 feet upstream of U.S. 70 | None | +649
Philadelphia Lake | At the confluence with North Buffalo Creek | +726 | +728 | City of Greensboro.
| Approximately 1,100 feet upstream of West Cone Boulevard | None | +810
Parks Creek | Approximately 0.4 mile downstream of the Alamance/Guilford County boundary | None | +633 | Guilford County (Unincorporated Areas).
| Approximately 1,000 feet upstream of the Alamance/Guilford County boundary | None | +656
Polecat Creek Tributary 4 | At the Guilford/Randolph County boundary | None | +695 | Guilford County (Unincorporated Areas).
| Approximately 1,400 feet upstream of SR 62 | None | +712
Reedy Fork Tributary 10 | Approximately 0.5 mile upstream of the confluence with Reedy Fork Creek | +742 | +745 | Guilford County (Unincorporated Areas), City of Greensboro.
| Approximately 1.0 mile upstream of the confluence with Reedy Fork Creek | None | +752
Richland Creek Tributary 12 | At Nathan Hunt Drive | None | +793 | City of High Point.
| Approximately 100 feet upstream of Tate Street | None | +863
Tributary 15 | Approximately 50 feet upstream of Surrett Drive | +827 | +828 | City of High Point.
| Approximately 100 feet upstream of South Elm Street | None | +857
Tributary 2 | Approximately 250 feet upstream of the confluence with Richland Creek (Stream No. 30) | None | +713 | Guilford County (Unincorporated Areas), City of High Point.
| Approximately 0.6 mile upstream of the confluence with Richland Creek | None | +809
Tributary 3 | Approximately 625 feet upstream of the confluence with Richland Creek | None | +724 | Guilford County (Unincorporated Areas), City of High Point.
| Approximately 75 feet upstream of Lawndale Avenue | None | +828
Tributary 4 | At the confluence with Richland Creek Tributary 3 | None | +753 | Guilford County (Unincorporated Areas), City of High Point.
| Approximately 1,550 feet upstream of Central Avenue | None | +829
Rock Creek Tributary 3 | Approximately 750 feet upstream of the confluence with Rock Creek (Stream No. 80) | None | +632 | Guilford County (Unincorporated Areas).
| Approximately 1.1 miles upstream of the confluence with Rock Creek (Stream No. 80) | None | +652
Sandy Ridge Tributary | At the downstream side of NC 68 | +797 | +800 | Guilford County (Unincorporated Areas).
| At Gilmore Dairy Road | None | +832
Smith Branch | Approximately 1,700 feet upstream of the confluence with Reedy Fork Creek | +674 | +675 | Guilford County (Unincorporated Areas).
| Approximately 1.7 miles upstream of Turner Smith Road | None | +758
South Buffalo Creek (Stream No. 67) | Approximately 350 feet upstream of East Lee Street | +714 | +715 | Guilford County (Unincorporated Areas), City of Greensboro.
| Approximately 1,100 feet upstream of Guilford College Road | None | +876
South Buffalo Creek Tributary A | At the confluence with South Buffalo Creek | +805 | +807 | Guilford County (Unincorporated Areas), City of Greensboro.
| Approximately 0.7 mile upstream of Tower Road | None | +902
Tributary B | At the confluence with South Buffalo Creek Tributary A | +810 | +809 | City of Greensboro.
| Approximately 550 feet upstream of Richland Street | None | +886
Tributary 1 | At the confluence with South Buffalo Creek | +804 | +807 | City of Greensboro.
| Approximately 300 feet upstream of Pennoak Road | None | +837
Tributary 4 | At the confluence with South Buffalo Creek | +712 | +713 | Guilford County (Unincorporated Areas), City of Greensboro.
| Approximately 1,250 feet upstream of South English Street | None | +770
Tributary 5 | At the confluence with South Buffalo Creek | +718 | +719 | City of Greensboro.
| Approximately 1,100 feet upstream of South English Street | None | +773
Tributary 8 | At the confluence with South Buffalo Creek | +725 | +728 | City of Greensboro.
| Approximately 800 feet upstream of South Benbow Road | None | +739
Tributary 9 | At the confluence with South Buffalo Creek | +733 | +735 | City of Greensboro.
| Approximately 50 feet downstream of East Vandalia Road | None | +746
Tributary 10 | Approximately 180 feet upstream of the confluence with Ryan Creek | None | +736 | City of Greensboro.
| Approximately 50 feet downstream of Webster Road | None | +807
Stream No. 13 Tributary 1 | Approximately 400 feet upstream of the confluence with Stream No. 13 | None | +806 | City of High Point.
| Approximately 2,400 feet upstream of the confluence with Stream No. 13 | None | +854
Tributary 3 | Approximately 250 feet upstream of the confluence with Stream No. 13 | None | +817 | City of High Point.
| Approximately 400 feet upstream of Pine Valley Road | None | +856
Stream No. 27 Tributary 2 | Approximately 350 feet upstream of the confluence with Stream No. 27 | None | +786 | City of High Point.
| Approximately 1,700 feet upstream of Alpine Drive | None | +833
Stream No. 34 | Approximately 450 feet downstream of Habersham Road | None | +817 | City of High Point.
| Approximately 1,850 feet downstream of Pendleton Street | None | +851
Stream No. 34A | At the upstream side of Jackson Lake Road | None | +745 | Guilford County (Unincorporated Areas), City of High Point.
| Approximately 200 feet upstream of Baker Road | None | +827
Tributary 1 | At the confluence with Stream No. 34A | None | +752 | Guilford County (Unincorporated Areas), City of High Point.
| Approximately 1,650 feet upstream of the confluence with Stream No. 34A | None | +782
Tributary 2 | At the confluence with Stream No. 34A | None | +753 | Guilford County (Unincorporated Areas), City of High Point.
| Approximately 1,650 feet upstream of the confluence with Stream No. 34A | None | +793
Tributary 3 | At the confluence with Stream No. 34A | None | +769 | Guilford County (Unincorporated Areas), City of High Point.
| Approximately 0.5 mile upstream of the confluence with Stream No. 34A | None | +820
Tributary 4 | At the confluence with Stream No. 34A Tributary 3 | None | +775 | City of High Point.
| Approximately 1,700 feet upstream of the confluence with Stream No. 34A Tributary 3 | None | +825
Tributary 6 | At the confluence with Stream No. 34A | None | +794 | City of High Point.
| Approximately 450 feet upstream of North Hall Street | None | +818
Tributary 7 | At the confluence with Stream No. 34A | None | +817 | City of High Point.
| Approximately 1,350 feet upstream of Baker Road | None | +864
Tributary A to Travis Creek | At the Alamance/Guilford County boundary | None | +623 | Guilford County (Unincorporated Areas).
| Approximately 600 feet upstream of Howerton Road | None | +674
Unnamed Tributary to West Fork Deep River | Approximately 750 feet upstream of the confluence with West Fork Deep River Tributary 1 | None | +832 | Guilford County (Unincorporated Areas).
| Approximately 200 feet upstream of Adkins Road | None | +855
West Fork Deep River (Stream No. 2) | Approximately 1,750 feet upstream of the confluence with West Fork Deep River Tributary 1 (Stream No. 3) | None | +833 | Guilford County (Unincorporated Areas).
| At the Guilford/Forsyth County boundary | None | +862
* National Geodetic Vertical Datum.
# Depth in feet above ground.
+North American Vertical Datum.
ADDRESSES
City of Greensboro
Maps are available for inspection at Greensboro Stormwater Management Division, 2602 South Elm Eugene Street, Greensboro, North Carolina.
Send comments to The Honorable Keith Holliday, Mayor of the City of Greensboro, P.O. Box 3136, Greensboro, North Carolina 27402-3136.
City of High Point
Maps are available for inspection at the High Point City Hall, 211 South Hamilton Street, High Point, North Carolina.
Send comments to The Honorable Rebecca Smothers, Mayor of the City of High Point, P.O. Box 230, High Point, North Carolina 27261.
Town of Jamestown
Maps are available for inspection at the Jamestown Town Hall, 301 East Main Street, Jamestown, North Carolina.
Send comments to The Honorable William G. Ragsdale, III, Mayor of the Town of Jamestown, P.O. Box 848, Jamestown, North Carolina 27282.
Town of Pleasant Garden
Maps are available for inspection at the Town of Pleasant Garden Kirkman Municipal Building, 4920 Alliance Church Road, Pleasant Garden, North Carolina.
Send comments to The Honorable Rick Wallace, Mayor of the Town of Pleasant Garden, P.O. Box 307, Pleasant Garden, North Carolina 27313.
Unincorporated Areas of Guilford County
Maps are available for inspection at the Guilford County Planning and Development Office, 201 South Eugene Street, Greensboro, North Carolina.
Send comments to Mr. W. David McNeill, Jr., Guilford County Interim Manager, P.O. Box 3427, Greensboro, North Carolina 27402.
Lincoln County, North Carolina and Incorporated Areas
Anderson Creek | At the confluence with Killian Creek | None | +667 | Unincorporated Areas of Lincoln County.
| At the confluence with Hooper Creek and Wingate Creek | None | +709
Tributary 1 | At the confluence with Anderson Creek | None | +675 | Unincorporated Areas of Lincoln County.
| Approximately 1.9 miles upstream of the confluence with Anderson Creek | None | +746
Armstrong Branch | At the confluence with Dellinger Branch | None | +712 | Unincorporated Areas of Lincoln County.
| Approximately 0.9 mile upstream of the confluence with Dellinger Branch | None | +765
Ballard Creek | At the confluence with Wingate Creek | None | +714 | Unincorporated Areas of Lincoln County.
| Approximately 0.6 mile upstream of the confluence of Ballard Creek Tributary 3 | None | +829
Tributary 1 | At the confluence with Ballard Creek | None | +745 | Unincorporated Areas of Lincoln County.
| Approximately 0.6 mile upstream of the confluence with Ballard Creek | None | +791
Tributary 2 | At the confluence with Ballard Creek | None | +765 | Unincorporated Areas of Lincoln County.
| Approximately 90 feet downstream of East King Wilkinson Road (State Route 1349) | None | +827
Tributary 3 | At the confluence with Ballard Creek | None | +811 | Unincorporated Areas of Lincoln County.
| Approximately 1,900 feet upstream of North Ernest Huss Lane | None | +911
Bradshaw Branch | At the confluence with Leepers Creek | None | +713 | Unincorporated Areas of Lincoln County.
| Approximately 1.7 miles upstream of the confluence with Leepers Creek | None | +754
Buffalo Creek | At Cleveland/Lincoln County boundary | None | +957 | Unincorporated Areas of Lincoln County.
| Approximately 600 feet upstream of NC-10 | None | +1,155
Tributary 5 | At the confluence with Buffalo Creek | None | +988 | Unincorporated Areas of Lincoln County.
| Approximately 0.6 mile upstream of the confluence with Buffalo Creek | None | +1,017
Tributary 6 | At the confluence with Buffalo Creek | +1,033 |  | Unincorporated Areas of Lincoln County.
| Approximately 0.5 mile upstream of the confluence of Buffalo Creek Tributary 6A | None | +1,099
Tributary 6A | At the confluence with Buffalo Creek Tributary 6 | None | +1,074 | Unincorporated Areas of Lincoln County.
| Approximately 0.6 mile upstream of the confluence with Buffalo Creek Tributary 6 | None | +1,118
Carpenter Creek | Approximately 0.4 mile upstream of the confluence with Clarks Creek | +773 | +774 | Unincorporated Areas of Lincoln County, City of Lincolnton.
| Approximately 100 feet downstream of U.S. 321 | None | +865
Tributary 1 | At the confluence with Carpenter Creek | None | +801 | Unincorporated Areas of Lincoln County.
| Approximately 0.4 mile upstream of North Bulldog Lane | None | +833
Catawba River | At Gaston/Lincoln County boundary | None | +665 | Unincorporated Areas of Lincoln County.
| At Cowans Ford Dam | None | +670
Tributary 4 | At the confluence with Catawba River | None | +665 | Unincorporated Areas of Lincoln County.
| Approximately 0.4 mile upstream of the confluence with Catawba River | None | +665
Tributary 5 | At the confluence with Catawba River | None | +667 | Unincorporated Areas of Lincoln County.
| Approximately 0.7 mile upstream of the confluence with Catawba River | None | +673
Tributary 6 | At the confluence with Catawba River | None | +668 | Unincorporated Areas of Lincoln County.
| Approximately 300 feet upstream of North Club Drive (State Route 1395) | None | +682
Clarks Creek | Approximately 0.8 mile downstream of West Maiden-Salem Road (State Route 1274) | None | +780 | Unincorporated Areas of Lincoln County.
| Approximately 200 feet upstream of Lincoln/Catawba County boundary | None | +792
Tributary 1 | Approximately 1,100 feet upstream of the confluence with Clarks Creek | +764 | +765 | City of Lincolnton.
| Approximately 150 feet upstream of North Aspen Street | None | +788
Tributary 2 | At the confluence with Clarks Creek | None | +781 | Unincorporated Areas of Lincoln County.
| Approximately 0.6 mile upstream of the confluence with Clarks Creek | None | +790
Crooked Creek | At the confluence with Leepers Creek | None | +691 | Unincorporated Areas of Lincoln County.
| Approximately 0.9 mile upstream of the confluence with Leepers Creek | None | +720
Dellinger Branch | At the confluence with Leepers Creek | None | +712 | Unincorporated Areas of Lincoln County.
| Approximately 1,150 feet upstream of South Low Bridge Road (State Route 1314) | None | +792
Tributary 1 | At the confluence with Dellinger Branch | None | +738 | Unincorporated Areas of Lincoln County.
| Approximately 1,200 feet upstream of East Orchard Road (State Route 1358) | None | +809
Forney Creek | At the confluence with Killian Creek | None | +663 | Unincorporated Areas of Lincoln County
| Approximately 2.6 miles upstream of East Optimist Club Road (State Route 1380) | None | +769
Tributary 1 | At the confluence with Forney Creek | None | +679 | Unincorporated Areas of Lincoln County.
| Approximately 1,350 feet upstream of the confluence of Forney Creek Tributary 1B | None | +710
Tributary 1A | At the confluence with Forney Creek Tributary 1 | None | +679 | Unincorporated Areas of Lincoln County,
| Approximately 0.7 mile upstream of the Railroad | None | +707
Tributary 1B | At the confluence with Forney Creek Tributary 1 | None | +695 | Unincorporated Areas of Lincoln County.
| Approximately 0.4 mile upstream of the confluence with Forney Creek Tributary 1 | None | +702
Glenn Creek | At Cleveland/Lincoln County boundary | None | +899 | Unincorporated Areas of Lincoln County.
| Approximately 230 feet downstream of NC-27 | None | +1,041
Hog Branch | At the confluence with Larkard Creek | None | +788 | Unincorporated Areas of Lincoln County.
| Approximately 1.0 mile upstream of North U.S. 321 (State Route 1844) | None | +830
Hooper Creek | At the confluence with Anderson creek and Wingate Creek | None | +709 | Unincorporated Areas of Lincoln County.
| Approximately 1.6 miles upstream of the confluence with Anderson Creek and Wingate Creek | None | +753
Howards Creek | Approximately 1,800 feet upstream of the confluence with South Fork Catawba River | None | +769 | Unincorporated Areas of Lincoln County.
| Approximately 100 feet upstream of Catawba/Lincoln County boundary | None | +972
Tributary 1 | At the confluence with Howards Creek | None | +769 | Unincorporated Areas of Lincoln County.
| Approximately 0.8 mile upstream of the confluence with Howards Creek | None | +795
Tributary 2 | At the confluence with Howards Creek | None | +780 | Unincorporated Areas of Lincoln County .
| Approximately 1.4 miles upstream of North Alf Hoover Road (State Route 1200) | None | +904
Tributary 3 | At the confluence with Howards Creek | None | +839 | Unincorporated Areas of Lincoln County.
| Approximately 0.5 mile upstream of North Howards Creek Mill Road (State Route 1194) | None | +865
Tributary 4 | At the confluence with Howards Creek | None | +859 | Unincorporated Areas of Lincoln County.
| Approximately 0.5 mile upstream West Abernethy Farm Road (State Route 1195) | None | +904
Tributary 5 | At the confluence with Howards Creek | None | +867 | Unincorporated Areas of Lincoln County.
| Approximately 100 feet downstream of North Overlook Lane | None | +909
Tributary 6 | At the confluence with Howards Creek | None | +911 | Unincorporated Areas of Lincoln County.
| Approximately 0.8 mile upstream of West Reepsville Road (State Route 1113) | None | +971
Tributary 7 | At the confluence with Howards Creek | None | +928 | Unincorporated Areas of Lincoln County.
| Approximately 1,100 feet upstream of West Gilbert Sain Road (State Route 1210) | None | +1,022
Hoyle Creek | Approximately 200 feet downstream of Gaston/Lincoln County boundary | None | +742 | Unincorporated Areas of Lincoln County.
| Approximately 10 feet downstream of East Keener Road (State Route 1323) | None | +872
Tributary 1 | At the confluence with Hoyle Creek | None | +742 | Unincorporated Areas of Lincoln County.
| Approximately 0.4 mile upstream of East Magnolia Grove Road (State Route 1309) | None | +773
Tributary 2 | At the confluence with Hoyle Creek | None | +756 | Unincorporated Areas of Lincoln County.
| Approximately 0.5 mile upstream of the confluence with Hoyle Creek | None | +770
Tributary 4 | At the confluence with Hoyle Creek | None | +767 | Unincorporated Areas of Lincoln County.
| Approximately 0.7 mile upstream of the confluence with Hoyle Creek | None | +789
Tributary 5 | At the confluence with Hoyle Creek | None | +784 | Unincorporated Areas of Lincoln County.
| Approximately 0.4 mile upstream of East Hovis Road (State Route 1315) | None | +810
Tributary 6 | At the confluence with Hoyle Creek | None | +809 | Unincorporated Areas of Lincoln County.
| Approximately 0.4 mile upstream of South Hill Road (State Route 1321) | None | +855
Indian Creek | Approximately 0.6 mile downstream of Gaston/Lincoln County boundary | None | +787 | Unincorporated Areas of Lincoln County.
| At Catawba/Lincoln County boundary | None | +1,011
Tributary 1 | At upstream side of South Landers Church Road (State Route 1176) | +761 | +762 | Unincorporated Areas of Lincoln County.
| Approximately 650 feet upstream of South St. Marks Church Road (State Route 1172) | None | +808
Tributary 2 | Approximately 1,200 feet upstream of the confluence with Indian Creek | None | +773 | Unincorporated Areas of Lincoln County.
| Approximately 1,200 feet upstream of the dam | None | +896
Johnson Creek | At Gaston/Lincoln County boundary | None | +664 | Unincorporated Areas of Lincoln County.
| Approximately 0.9 mile upstream of Gaston/Lincoln County boundary | None | +677
Killian Creek | At Gaston/Lincoln County boundary | None | +635 | Unincorporated Areas of Lincoln County.
| Approximately 1.5 miles upstream of East Mundy Road (State Route 1349) | None | +829
Larkard Creek | At the confluence with Clarks Creek | None | +782 | Unincorporated Areas of Lincoln County.
| Approximately 200 feet upstream of East Springs East Road (State Route 1342) | None | +845
Leepers Creek | At the Gaston/Lincoln County boundary | None | +635 | Unincorporated Areas of Lincoln County.
| At the confluence with Lippard Creek and Sawmill Branch | None | +807
Tributary 1 | At the confluence with Leepers Creek | None | +661 | Unincorporated Areas of Lincoln County.
| Approximately 0.6 mile upstream of the confluence with Leepers Creek | None | +677
Tributary 2 | At the confluence with Leepers Creek | None | +663 | Unincorporated Areas of Lincoln County.
| Approximately 0.7 mile upstream of the confluence with Leepers Creek | None | +685
Tributary 3 | At the confluence with Leepers Creek | None | +665 | Unincorporated Areas of Lincoln County.
| Approximately 2,000 feet upstream of the confluence with Leepers Creek | None | +686
Tributary 4 | At the confluence with Leepers Creek | None | +667 | Unincorporated Areas of Lincoln County.
| Approximately 0.5 mile upstream of the confluence with Leepers Creek | None | +696
Tributary 5 | At the confluence with Leepers Creek | None | +671 | Unincorporated Areas of Lincoln County.
| Approximately 1.2 miles upstream of the confluence with Leepers Creek | None | +702
Leonard Fork | Approximately 1,300 feet upstream of the confluence with Indian Creek | None | +773 | Unincorporated Areas of Lincoln County.
| Approximately 0.5 mile upstream of West Flay Road (State Route 1140) | None | +934
Tributary 1 | At the confluence with Leonard Fork | None | +868 | Unincorporated Areas of Lincoln County.
| Approximately 0.9 mile upstream of the confluence with Leonard Fork | None | +937
Lick Fork Creek | At the confluence with Indian Creek | None | +790 | Unincorporated Areas of Lincoln County.
| Approximately 1,300 feet upstream of Gaston/Lincoln County boundary | None | +792
Lick Run Creek | At the confluence with Leepers Creek | None | +754 | Unincorporated Areas of Lincoln County.
| Approximately 900 feet upstream of North Leeping Brook Road (State Route 1530) | None | +895
Lippard Creek | At the confluence with Leepers Creek and Sawmill Branch | None | +807 | Unincorporated Areas of Lincoln County.
| At Catawba/Lincoln County boundary | None | +869
Tributary 1 | At the confluence with Lippard Creek | None | +832 | Unincorporated Areas of Lincoln County.
| Approximately 1,600 feet upstream of East Ivey Church Road (State Route 1343) | None | +891
Lithia Inn Branch | Approximately 500 feet downstream of North Jonas Drive | +775 | +774 | City of Lincolnton.
| Approximately 450 feet upstream of U.S. 321 | None | +878
Tributary 1 | Approximately 500 feet upstream of the confluence with Lithia Inn Branch | +771 | +772 | City of Lincolnton.
| Approximately 600 feet upstream of State Route 150/South Dave Warlick Drive | None | +828
Tributary 2 | At the confluence with Lithia Inn Branch Tributary 1 | None | +783 | City of Lincolnton.
| Approximately 200 feet upstream of East Laurel Street | None | +805
Little Buffalo Creek | At Cleveland/Lincoln County boundary | None | +854 | Unincorporated Areas of Lincoln County.
| Approximately 50 feet downstream of West Flay Road (State Route 1140) | None | +964
Little Creek (East) | At the confluence with Indian Creek | None | +847 | Unincorporated Areas of Lincoln County.
| Approximately 200 feet upstream of West Houser Farm Road (State Route 1127) | None | +960
Little Creek (West) | At the Cleveland/Lincoln County boundary | None | +961 | Unincorporated Areas of Lincoln County.
| Approximately 1.4 miles upstream of Cleveland/Lincoln County boundary | None | +1,022
Little Indian Creek | At the confluence of Indian Creek | None | +878 | Unincorporated Areas of Lincoln County.
| Approximately 250 feet upstream of West Macedonia Church Road | None | +1,067
Tributary 1 | At the confluence with Little Indian Creek | None | +905 | Unincorporated Areas of Lincoln County.
| Approximately 0.7 mile upstream of the confluence with Little Indian Creek | None | +991
Tributary 2 | At the confluence with Little Indian Creek | None | +917 | Unincorporated Areas of Lincoln County.
| Approximately 0.4 mile upstream of North Red Dawn Estate Trail | None | +980
Tributary 3 | At the confluence with Little Indian Creek | None | +934 | Unincorporated Areas of Lincoln County.
| Approximately 300 feet upstream of Hulls Grove Church Road | None | +984
Tributary 4 | At the confluence with Little Indian Creek | None | +937 | Unincorporated Areas of Lincoln County.
| Approximately 0.4 mile upstream of West Macedonia Church Road (State Route 1108) | None | +1,069
Tributary 4A | At the confluence with Little Indian Creek Tributary 4 | None | +978 | Unincorporated Areas of Lincoln County.
| Approximately 0.7 mile upstream of North Tallent Road (State Route 1120) | None | +1,047
Little Pott Creek | At the confluence with Pott Creek | None | +793 | Unincorporated Areas of Lincoln County.
| Approximately 150 feet downstream of North Cansler Road (State Route 1197) | None | +874
Lutz Branch | At the Gaston/Lincoln County boundary | None | +738 | Unincorporated Areas of Lincoln County.
| Approximately 150 feet downstream of East Mirror Lake Road (State Route 1474) | None | +760
McClure Branch | At the confluence with Leepers Creek | None | +671 | Unincorporated Areas of Lincoln County.
| Approximately 1.6 miles upstream of South Mt. Zion Church Road (State Route 1404) | None | +743
Mill Creek | At the confluence with Indian Creek | None | +795 | Unincorporated Areas of Lincoln County.
| Approximately 1.5 miles upstream of South Bess Chapel Church Road (State Route 1150) | None | +1,023
Muddy Creek | At Gaston/Lincoln County boundary | None | +713 | Unincorporated Areas of Lincoln County.
| Approximately 0.7 mile upstream of the confluence of Muddy Creek Tributary 2 | None | +786
Tributary 1 | At the confluence of Muddy Creek | None | +748 | Unincorporated Areas of Lincoln County.
| Approximately 1,700 feet upstream of U.S. 321 | None | +778
Tributary 2 | At the confluence with Muddy Creek | None | +752 | Unincorporated Areas of Lincoln County.
| Approximately 1,450 feet upstream of U.S. 321 | None | +793
Ore Bank Branch | At the confluence with Leepers Creek | None | +783 | Unincorporated Areas of Lincoln County.
| Approximately 1.0 mile upstream of the confluence with Leepers Creek | None | +822
Pott Creek | At the confluence with South Fork Catawba River | None | +778 | Unincorporated Areas of Lincoln County.
| At Catawba/Lincoln County boundary | None | +802
Reed Creek | At the confluence with Leepers Creek | None | +723 | Unincorporated Areas of Lincoln County.
| Approximately 1,900 feet upstream of East Stagecoach Road (State Route 1363) | None | +773
Rockdam Creek | At the confluence with Howards Creek | None | +769 | Unincorporated Areas of Lincoln County.
| Approximately 250 feet upstream of South Howards Creek School Road (State Route 1186) | None | +830
Sawmill Branch | At the confluence with Leepers Creek | None | +807 | Unincorporated Areas of Lincoln County.
| Approximately 1.3 miles upstream of North Union Church Road (State Route 1344) | None | +871
Tributary 1 | At the confluence with Sawmill Branch | None | +833 | Unincorporated Areas of Lincoln County.
| Approximately 0.5 mile upstream of the confluence with Sawmill Branch | None | +864
Snyder Creek | At the confluence with Killian Creek | None | +686 | Unincorporated Areas of Lincoln County.
| Approximately 1.8 mile upstream of the confluence with Killian Creek | None | +732
South Fork Catawba River | Approximately 2.4 miles upstream of the confluence of Howards Creek | None | +773 | Unincorporated Areas of Lincoln County.
| At Catawba/Lincoln County boundary | None | +793
Tributary 3 | At Gaston/Lincoln County boundary | None | +717 | Unincorporated Areas of Lincoln County.
| Approximately 500 feet upstream of West Hoffman Road (State Route 1245) | None | +730
Tributary 4 | At Railroad | +756 | +757 | Unincorporated Areas of Lincoln County, City of Lincolnton.
| Approximately 200 feet upstream of State Route 150 | None | +776
Tributary 5 | At the confluence with South Fork Catawba River | None | +782 | Unincorporated Areas of Lincoln County.
| Approximately 1.0 mile upstream of the confluence with South Fork Catawba River | None | +800
Tanyard Creek | At the confluence with Howards Creek | None | +779 | Unincorporated Areas of Lincoln County.
| Approximately 2.6 miles upstream of West Reepsville Road (State Route 1113) | None | +906
Tributary 1 | At the confluence with Tanyard Creek | None | +791 | Unincorporated Areas of Lincoln County.
| Approximately 1.6 miles upstream of West Reepsville Road (State Route 1113) | None | +890
Walker Branch | Approximately 200 feet downstream of North Aspen Street | +764 | +765 | Unincorporated Areas of Lincoln County, City of Lincolnton.
| Approximately 200 feet downstream of East Wilma Sigman Road | None | +815
Tributary 2 | At the confluence with Walker Branch | +806 | +805 | Unincorporated Areas of Lincoln County, City of Lincolnton.
| Approximately 0.4 mile upstream of North Huss Street | None | +947
Wilkinson Creek | At the confluence with Wingate Creek | None | +753 | Unincorporated Areas of Lincoln County.
| Approximately 300 feet upstream of State Route 150 | None | +910
Wingate Creek | At the confluence with Anderson Creek and Hooper Creek | None | +709 | Unincorporated Areas of Lincoln County.
| Approximately 1.3 miles upstream of the confluence of Wilkinson Creek | None | +804
ADDRESSES
City of Lincolnton:
Maps are available for inspection at the City of Lincolnton Planning Department, 114 West Sycamore Street, Lincolnton, North Carolina.
Send comments to The Honorable Bobby Huitt, Mayor of the City of Lincolnton, P.O. Box 617, Lincolnton, North Carolina 28093.
Unincorporated Areas of Lincoln County:
Maps are available for inspection at the Lincoln County Planning Department, 302 North Academy Street, Lincolnton, North Carolina.
Send comments to Mr. Tom Anderson, Chairman of the Lincoln County Board of Commissioners, 115 West Main Street, Lincolnton, North Carolina 28092.
* National Geodetic Vertical Datum.
# Depth in feet above ground.
+ North American Vertical Datum.

(Catalog of Federal Domestic Assistance No. 83.100, “Flood Insurance.”)
Dated: October 4, 2006.
David I. Maurstad,
Director, Mitigation Division, Federal Emergency Management Agency, Department of Homeland Security.

[FR Doc. E6-17279 Filed 10-16-06; 8:45 am]

BILLING CODE 9110-12-P